SURFACE TRANSPORTATION BOARD

Release of Waybill Data

AGENCY: Surface Transportation Board.

ACTION: Notice; correction.

SUMMARY: The Surface Transportation Board (STB) published a document in the Federal Register on October 30, 2017, concerning a request from Thompson Hine LLP, on behalf of itself, Economists, and L.E. Peabody & Associates (WB17-44—10/20/17) for permission to use certain unmasked data from the Board's 2006-2016 Carload Waybill Samples. STB is correcting the deadline objections to the request are due.

FOR FURTHER INFORMATION CONTACT: Alexander Dusenberry, (202) 245-0319.

Correction

In the Federal Register of October 30, 2017, in FR 2017-23454, on page 50220, in the second column, in the first full paragraph correct the first sentence to read as follows:

The waybill sample contains confidential railroad and shipper data; therefore, if any parties object to these requests, they should file their objections with the Director of the Board's Office of Economics by November 22, 2017.

Jeffrey Herzig,
Clearance Clerk.

[FR Doc. 2017-24627 Filed 11-13-17; 8:45 am]

BILLING CODE 4915-01-P